DEPARTMENT OF TRANSPORTATION

Federal Aviation Administration

Aviation Rulemaking Advisory Committee; Air Carrier and General Aviation Maintenance Issues—New Tasks

AGENCY: Federal Aviation Administration (FAA), DOT.

ACTION: Notice of new tasks assigned to the Aviation Rulemaking Advisory Committee (ARAC).

SUMMARY: The FAA has assigned two new tasks to the Aviation Rulemaking Advisory Committee. The tasks are related to aeronautical repair station regulations. The first task involves evaluating the current system of ratings and classes for aeronautical repair stations and, if appropriate, recommending a new system. The second task involves evaluating the current requirements for quality assurance programs for aeronautical repair stations and recommending whether the FAA should include such systems in the regulations. The Committee has elected to work these tasks itself rather than establish working groups to develop recommendations.

FOR FURTHER INFORMATION CONTACT: James J. Ballough, Manager, Continuous Airworthiness Maintenance Division, Flight Standards Service, Federal Aviation Administration, 800 Independence Avenue, SW., Washington, DC 20591, (202) 267-3546.

SUPPLEMENTARY INFORMATION:

Background

The FAA established the Aviation Rulemaking Advisory Committee to provide advice and recommendations to the FAA Administrator on the FAA's rulemaking activities with respect to aviation-related issues. The Committee addresses a wide range of aviation issues. The committee will address these tasks under Air Carrier and General Aviation Maintenance Issues.

On July 30, 2001, the FAA issued a final rule that revised part 145 of Title 14 of the Code of Federal Regulations (66 FR 41088). In Notice of Proposed Rulemaking No. 99-09 (64 FR 33142; June 21, 1999), the FAA proposed a new system of rating and classes and solicited comments on requirements for a quality assurance program for aeronautical repair stations. Commenters overwhelmingly objected to these proposals. The FAA is seeking advice and recommendations from the Committee before promulgating additional rulemaking on these topics.

Task 1—Repair Station Ratings System Recommendations

Task Summary

Recommend a system to rate aeronautical repair stations that mitigates problems associated with the existing system of ratings and accommodate the growth of the aviation industry.

Committee Activity

• Review the existing system of ratings and classes contained in the current part 145 and any other documents issued by the FAA pertaining to aeronautical repair stations.

• Review comments submitted to FAA in response to the public meetings held in 1989 and the system of ratings proposed in June 1999 in Notice No. 99-09.

• Review challenges reported by Aviation Safety Inspectors (ASIs) under the existing system of ratings.

• Identify the challenges that aeronautical repair stations encounter under the existing system of rating and classes, including those pertaining to:

• Current business practices that are not regulated that may require some form of control;

• Provisions in the current regulation that prevent repair stations from performing desired business practices; and

• Enforcement problems associated with the current regulations.

• Draft a Technical Report that—

• Presents a review of the existing system of ratings and classes;

• Identifies various options for rating systems;

• Identifies the advantages and disadvantages of each option;

• Provides economic information for each of the alternative rating systems; and

• Recommends a preferred system of ratings.

Task 2—Repair Station Quality Assurance Program Recommendations

Task Summary

Recommend a quality assurance program that reflects the industry requirements of aeronautical repair stations and accounts for the varying scope of repair station operations.

Committee Activity

• Review the discussion about quality assurance in the June 1999 Notice of Proposed Rulemaking (Notice No. 99-09).

• Review comments relating to quality assurance submitted to FAA in response to the public meetings held in 1989 and the quality assurance program requirements proposed in Notice No. 99-09.

• Review current industry practices relating to quality assurance issues to—

• Identify quality assurance systems currently used by some repair stations, and

• Analyze the elements of the systems used by the aviation industry.

• Develop a Technical Report that—

• Presents a review of regulatory requirements that comprise a quality assurance program;

• Identifies various options for regulating quality assurance programs;

• Identifies the advantages and disadvantages of each option;

• Provides information on the economic impacts of applying a quality assurance system to various segments of the repair station industry; and

• Recommends a preferred quality assurance program/system.

Delivery Date: The Committee must complete this task by February 28, 2002.

ARAC Acceptance of Task

The Committee has accepted these tasks and elected not to establish working groups to assist in analyzing these tasks because the tasks are time critical.

The new tasks and a plan for accomplishing these tasks will be discussed at the next meeting on Air Carrier and General Aviation Maintenance Issues. The Committee may be required to meet every 4 to 6 weeks to accomplish the tasks within the scheduled completion date. Meeting attendance is open to the interested public but space may be limited. The FAA will arrange teleconference capability for individuals wishing to participate in meetings if we receive notification within the time specified in each notice of meeting.

The Secretary of Transportation determined that the information and use of the ARAC is necessary and in the public interest in connection with the performance of duties imposed on the FAA by law.

Issued in Washington DC, on October 15, 2001.
James Ballough,
Assistant Executive Director, Air Carrier and General Aviation Maintenance Issues, Aviation Rulemaking Advisory Committee.

[FR Doc. 01-26460 Filed 10-18-01; 8:45 am]

BILLING CODE 4910-13-M